INTERNATIONAL TRADE COMMISSION

[Inv. No. 337-TA-529]

In the Matter of Digital Processors, Digital Processing Systems, Components Thereof, and Products Containing Same; Notice of Investigation

AGENCY: U.S. International Trade Commission.

ACTION: Institution of investigation pursuant to 19 U.S.C. 1337.

SUMMARY: Notice is hereby given that a complaint was filed with the U.S. International Trade Commission on December 7, 2004, under section 337 of the Tariff Act of 1930, as amended, 19 U.S.C. 1337, on behalf of BIAX Corporation of Boulder, Colorado. The complaint alleges violations of section 337 in the importation into the United States, the sale for importation, and the sale within the United States after importation of certain digital processors and digital processing systems, components thereof, and products containing same by reason of infringement of claims 11-13, 26, and 32-33 of U.S. Patent No. 4,487,755, claims 6, 8, 13-14, 28, 33-34, and 36 of U.S. Patent No. 5,021,954, claims 1-3, 9-21, 23, and 25-30 of U.S. Patent No. 5,517,628, claims 3-9, 11-12, and 16-24 of U.S. Patent No. 6,253,313, and claims 1, 3, 5, 7-8, 10, 13-16, 18, 20-22, and 24-28 of U.S. Patent No. 5,765,037. The complaint further alleges that an industry in the United States exists as required by subsection (a)(2) of section 337.

Complainant requests that the Commission institute an investigation and, after the investigation, issue a permanent exclusion order and permanent cease and desist orders.

ADDRESSES: The complaint and its exhibits, except for any confidential information contained therein, are available for inspection during official business hours (8:45 a.m. to 5:15 p.m.) in the Office of the Secretary, U.S. International Trade Commission, 500 E Street, SW., Room 112, Washington, DC 20436, telephone 202-205-2000. Hearing impaired individuals are advised that information on this matter can be obtained by contacting the Commission's TDD terminal on 202-205-1810. Persons with mobility impairments who will need special assistance in gaining access to the Commission should contact the Office of the Secretary at 202-205-2000. General information concerning the Commission may also be obtained by accessing its Internet server at http://www.usitc.gov. The public record for this investigation may be viewed on the Commission's electronic docket (EDIS) at http://edis.usitc.gov.

FOR FURTHER INFORMATION CONTACT: Benjamin D.M. Wood, Esq., Office of Unfair Import Investigations, U.S. International Trade Commission, telephone 202-205-2582.

Authority: The authority for institution of this investigation is contained in section 337 of the Tariff Act of 1930, as amended, and in section 210.10 of the Commission's Rules of Practice and Procedure, 19 CFR 210.10 (2004).

Scope of Investigation: Having considered the complaint, the U.S. International Trade Commission, on December 30, 2004, ordered that—

(1) Pursuant to subsection (b) of section 337 of the Tariff Act of 1930, as amended, an investigation be instituted to determine whether there is a violation of subsection (a)(1)(B) of section 337 in the importation into the United States, the sale for importation, or the sale within the United States after importation of certain digital processors and digital processing systems, components thereof, and products containing same by reason of infringement of one or more of claims 11-13, 26, or 32-33 of U.S. Patent No. 4,487,755, claims 6, 8, 13-14, 28, 33-34, or 36 of U.S. Patent No. 5,021,954, claims 1-3, 9-21, 23, or 25-30 of U.S. Patent No. 5,517,628, claims 3-9, 11-12, or 16-24 of U.S. Patent No. 6,253,313, or claims 1, 3, 5, 7-8, 10, 13-16, 18, 20-22, or 24-28 of U.S. Patent No. 5,765,037, and whether an industry in the United States exists as required by subsection (a)(2) of section 337.

(2) For the purpose of the investigation so instituted, the following are hereby named as parties upon which this notice of investigation shall be served:

(a) The complainant is—BIAX Corporation, 2452 Briarwood Drive, Boulder, Colorado 80305.

(b) The respondents are the following companies alleged to be in violation of section 337, and are the parties upon which the complaint is to be served:

Texas Instruments, Inc., 12500 TI Boulevard, Dallas, Texas 75243-4136;

iBiquity Digital Corporation, 8865 Stanford Boulevard, Suite 202, Columbia, Maryland 21045;

Kenwood Corporation, 2967-3 Ishikawa-machi, Hachioji-shi, Tokyo, 192-8525, Japan;

Kenwood U.S.A. Corporation, 2201 E Dominguez Street, Long Beach, California 90810.

(c) Benjamin D.M. Wood, Esq., Office of Unfair Import Investigations, U.S. International Trade Commission, 500 E Street, SW., Suite 401, Washington, DC 20436, who shall be the Commission investigative attorney, party to this investigation; and

(3) For the investigation so instituted, the Honorable Sidney Harris is designated as the presiding administrative law judge.

A response to the complaint and the notice of investigation must be submitted by the named respondents in accordance with section 210.13 of the Commission's Rules of Practice and Procedure, 19 CFR 210.13. Pursuant to 19 CFR 201.16(d) and 210.13(a), such response will be considered by the Commission if received not later than 20 days after the date of service by the Commission of the complaint and the notice of investigation. Extensions of time for submitting the response to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter a final determination containing such findings, and may result in the issuance of a limited exclusion order or cease and desist order or both directed against the respondent.

Issued: January 3, 2005.
By order of the Commission.
Marilyn R. Abbott,
Secretary to the Commission.

[FR Doc. 05-250 Filed 1-5-05; 8:45 am]

BILLING CODE 7020-02-P